DEPARTMENT OF TRANSPORTATION

Federal Aviation Administration

Notice of Opportunity for Public Comment for Land Exchange at New Bedford Airport in New Bedford, MA

AGENCY: Federal Aviation Administration (FAA), DOT.

ACTION: Request for public comments.

SUMMARY: Under the provisions of Title 49, U.S.C. 47153(d), notice is being given that the FAA is considering a request from New Bedford Airport in New Bedford, MA, to exchange .65 acres of airport land for 1.14 acres of land owned by the Tifereth Israel Congregation in order to construct the Runway Safety Area and provide for a maintenance/emergency road for Runway 14-32 at New Bedford Airport in New Bedford, MA.

The .65 acres of airport land being exchanged by the airport is not required for current of future aviation use. The land is remote, non-contiguous to the airport land and is primarily wooded. The two parcels that will be acquired from Tifereth Israel Congregation will be used to meet FAA design requirements for the Runway 14 Runway Safety Area and provide a maintenance/emergency access road for this runway end.

DATES: Comments must be received on or before October 17, 2016.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W12-140, 1200 New Jersey Avenue SE., Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts, Telephone 781-238-7618.

Issued in Burlington, Massachusetts, on September 6, 2016.
Mary T. Walsh,
Manager, Airports Division.

[FR Doc. 2016-22138 Filed 9-15-16; 8:45 am]

BILLING CODE P